ELECTION ASSISTANCE COMMISSION

Sunshine Act Meetings

AGENCY: U.S. Election Assistance Commission.

ACTION: Sunshine Act notice; notice of public meeting agenda.

SUMMARY: Public Meeting: U.S. Election Assistance Commission Standards Board 2023 Annual Meeting.

DATES: Tuesday, April 18, 2023, 11:00 a.m.-7:00 p.m. Eastern and Wednesday, April 19, 2023, 10:30 a.m.-2:00 p.m. Eastern.

ADDRESSES: Hyatt Regency Phoenix, 122 N 2nd St., Phoenix, AZ 85004.

The meeting is open to the public.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an annual meeting of the EAC Standards Board to conduct regular business, discuss EAC updates and upcoming programs, and discuss the Voluntary Voting System Guidelines (VVSG) 2.0 and electronic poll book pilot program.

Agenda: The U.S. Election Assistance Commission (EAC) Standards Board will hold their 2023 Annual Meeting primarily to conduct an annual review the VVSG 2.0 Requirements and implementation, review the status of the EAC's e-poll book pilot program, discuss ongoing EAC programs, and address election official security and mental health concerns. This meeting will include a question and answer discussion between board members and EAC staff.

Board members will also review FACA Board membership guidelines and policies with EAC Acting General Counsel and receive a general update about the EAC programing. The Board will also elect nine members to the Executive Board Committee.

Background: On February 10, 2021 the U.S. Election Assistance Commission (EAC) announced the adoption of the Voluntary Voting System Guidelines (VVSG) 2.0, the fifth iteration of national level voting system standards. The Federal Election Commission published the first two sets of Federal standards in 1990 and 2002. The EAC then adopted Version 1.0 of the VVSG on December 13, 2005. In an effort to update and improve version 1.0 of the VVSG, on March 31, 2015, the EAC commissioners unanimously approved VVSG 1.1.

HAVA designates a 110-member Standards Board to assist EAC in carrying out its mandates under the law. The board consists of 55 state election officials selected by their respective chief state election official, and 55 local election officials selected through a process supervised by the chief state election official.

The full agenda will be posted in advance on the EAC website: https://www.eac.gov.

Status: This meeting will be open to the public.

Camden Kelliher,
Associate Counsel, U.S. Election Assistance Commission.

[FR Doc. 2023-05899 Filed 3-17-23; 4:15 pm]

BILLING CODE P